NATIONAL SCIENCE FOUNDATION

Notice of Intent To Seek Approval To Extend and Revise a Current Information Collection

AGENCY: National Science Foundation.

ACTION: Notice and request for comments.

SUMMARY: The National Science Foundation (NSF) is announcing plans to request renewal of this collection. In accordance with the requirement of section 3506(c)(2)(A) of the Paperwork Reduction Act of 1995 (Pub. L. 104-13), we are providing opportunity for public comment on this action. After obtaining and considering public comment, NSF will prepare the submission requesting that OMB approve clearance of this collection for three years.

DATES: Written comments on this notice must be received by May 25, 2010 to be assured of consideration. Comments received after that date will be considered to the extent practicable.

For Additional Information or Comments: Contact Suzanne H. Plimpton, Reports Clearance Officer, National Science Foundation, 4201 Wilson Boulevard, Suite 295, Arlington, Virginia 22230; telephone (703) 292-7556; or send e-mail to splimpto@nsf.gov. Individuals who use a telecommunications device for the deaf (TDD) may call the Federal Information Relay Service (FIRS) at 1-800-877-8339, which is accessible 24 hours a day, 7 days a week, 365 days a year (including Federal holidays). You also may obtain a copy of the data collection instrument and instructions from Ms. Plimpton.

Comments: Comments are invited on (a) whether the proposed collection of information is necessary for the proper performance of the functions of the Agency, including whether the information shall have practical utility; (b) the accuracy of the Agency's estimate of the burden of the proposed collection of information; (c) ways to enhance the quality, utility, and clarity of the information on respondents, including through the use of automated collection techniques or other forms of information technology; and (d) ways to minimize the burden of the collection of information on those who are to respond, including through the use of appropriate automated, electronic, mechanical, or other technological collection techniques or other forms of information technology.

SUPPLEMENTARY INFORMATION: Title of Collection: Higher Education Research and Development Survey; OMB Control Number 3145-0100.

Expiration Date of Current Approval: August 31, 2011.

Proposed Renewal Project: The Survey of Research and Development Expenditures at Universities and Colleges originated in fiscal year (FY) 1954 and has been conducted annually since FY 1972. The survey is the academic research and development component of the NSF statistical program that seeks to provide a “central clearinghouse for the collection, interpretation, and analysis of data on the availability of, and the current and projected need for, scientific and technical resources in the United States, and to provide a source of information for policy formulation by other agencies of the federal government,” as mandated in the National Science Foundation Act of 1950.

Since 2007, NSF has been working on a redesign and expansion of the survey to better reflect the current state of academic R&D. The redesigned survey was renamed the Higher Education R&D Survey and was pilot tested with a random sample of 40 institutions during the FY 2009 survey cycle. Beginning with the FY 2010 cycle, the redesigned survey will be administered to the full population of research-performing academic institutions.

Use of the Information: The proposed project will continue the annual survey cycle for three years. The FY 2010 Higher Education R&D Survey will be administered to an expected minimum of 760 institutions. A shorter version of the survey asking for R&D expenditures by source of funding and character of work (basic, applied, or development) will be administered to the 38 Federally Funded Research and Development Centers.

The Higher Education R&D Survey will provide continuity of statistics on R&D expenditures by source of funding and field of research, with separate data requested on current fund expenditures for research equipment by field. Further breakdowns are collected on funds passed through to subrecipients and funds received as a subrecipient, and on R&D expenditures by field from specific Federal agency sources. New items on the survey include R&D expenditures funded from foreign sources, R&D within an institution's medical school, interdisciplinary R&D expenditures, and R&D expenditures by type of funding mechanism (contracts vs. grants) and cost category (salaries, equipment, software, etc.). Other new items request non-expenditure information such as headcounts of research personnel, counts of R&D proposals submitted, and counts and total dollar values of R&D awards.

Data are published in NSF's annual publication series Academic R&D Expenditures and are available electronically on the World Wide Web.

The survey is a fully automated Web data collection effort and is handled primarily by administrators in university sponsored programs and accounting offices. To minimize burden, institutions are provided with an abundance of guidance and resources on the Web, and are able to respond via a downloadable excel spreadsheet if desired. Each institution's record is pre-loaded with the 2 previous years of comparable data that facilitate editing and trend checking. Response to this voluntary survey has exceeded 95 percent each year, and response to the pilot test of the new survey is expected to be 100 percent.

The average burden report for the FY 2009 pilot test institutions was 66 hours, 21 hours of one-time programming and 45 hours of annual reporting burden.

Dated: March 23, 2010.
Suzanne H. Plimpton,
Reports Clearance Officer, National Science Foundation.

[FR Doc. 2010-6761 Filed 3-25-10; 8:45 am]

BILLING CODE 7555-01-P